DEPARTMENT OF HEALTH AND HUMAN SERVICES

Opportunity for Co-Sponsorship of the President's Challenge Physical Activity and Fitness Awards Program; Correction

AGENCY: President's Council on Physical Fitness and Sports.

ACTION: Notice; correction.

SUMMARY: The President's Council on Physical Fitness and Sports published a document in the Federal Register of December 28, 2009, concerning the opportunity for non-Federal entities to co-sponsor and administer a series of financially self-sustaining activities related to the President's Challenge Physical Activity and Fitness Awards Program. The document contained incorrect addresses and contact information.

FOR FURTHER INFORMATION CONTACT: Jane Wargo, 202.690.5157

Correction

In the Federal Register of December 28, 2009, in FR Doc. E9-30653, on page 68626, in the third column, correct the 3rd and 4th lines in the ADDRESSES and 3rd line in the FOR FURTHER INFORMATION CONTACT captions to read:

ADDRESSES: Proposals for co-sponsorship should be sent to Jane Wargo, Program Analyst, Office of the President's Council on Physical Fitness and Sports, 1101 Wootton Parkway, Suite 560, Rockville, MD 20852; Ph: (240) 276-9847, Fax: (240) 276-9860. Proposals may also be submitted by electronic mail to jane.wargo@hhs.gov.

FOR FURTHER INFORMATION CONTACT: Jane Wargo, Program Analyst, Office of the President's Council on Physical Fitness and Sports, Ph: (240) 276-9847, e-mail: jane.wargo@hhs.gov.

Dated: January 12, 2010.
Jane Wargo,
Program Analyst, President's Council on Physical Fitness and Sports, U.S. Department of Health and Human Services.

[FR Doc. 2010-760 Filed 1-14-10; 8:45 am]

BILLING CODE 4150-35-P